DEPARTMENT OF HEALTH AND HUMAN SERVICES

Centers for Disease Control and Prevention

[30Day-34-04]

Proposed Data Collections Submitted for Public Comment and Recommendations

The Centers for Disease Control and Prevention (CDC) publishes a list of information collection requests under review by the Office of Management and Budget (OMB) in compliance with the Paperwork Reduction Act (44 U.S.C. chapter 35). To request a copy of these requests, call the CDC Reports Clearance Officer at (404) 498-1210. Send written comments to CDC, Desk Officer, Human Resources and Housing Branch, New Executive Office Building, Room 10235, Washington, DC 20503, or by fax to (202) 395-6974. Written comments should be received within 30 days of this notice.

Proposed Project: Select Agent Distribution Activity: Request for Select Agent (OMB No. 0920-0591)—Reinstatement without change—National Center for Infectious Diseases (NCID), Centers for Disease Control and Prevention (CDC).

The National Center for Infectious Diseases (NCID) is requesting a three-year clearance to continue data collection under the Select Agent Distribution Activity. The purpose of this project is to provide a systematic and consistent mechanism to review requests that come to CDC for Select Agents. In light of current Bioterrorism concerns and the significant NIH grant monies being directed toward Select Agent research, NCID anticipates the receipt of hundreds of requests for Select Agents.

Applicants will be expected to complete an application form in which they will identify themselves and their institution, provide a CV or biographical sketch, a summary of their research proposal, and signed indemnification and material transfer agreement statements. A user fee will be collected to recover costs for materials, handling and shipping (except for public health laboratories). The estimated annualized burden for this project is 450 hours.

Respondents | Number of respondents | Number of responses per respondent (in hours) | Average burden per response (in hours)
Researcher | 900 | 1 | 30/60

Dated: March 31, 2004.
Alvin Hall,
Director, Management Analysis and Services Office, Centers for Disease Control and Prevention.

[FR Doc. 04-7885 Filed 4-6-04; 8:45 am]

BILLING CODE 4163-18-P